DEPARTMENT OF TRANSPORTATION

Federal Aviation Administration

14 CFR Part 39

[Docket No. FAA-2026-1333; Project Identifier AD-2026-00130-T; Amendment 39-23266; AD 2026-04-06]

RIN 2120-AA64

Airworthiness Directives; The Boeing Company Airplanes

AGENCY: Federal Aviation Administration (FAA), DOT.

ACTION: Final rule; request for comments.

SUMMARY: The FAA is adopting a new airworthiness directive (AD) for certain The Boeing Company Model 757-200 and -300 series airplanes. This AD was prompted by reported crack findings on airplanes with scimitar blended winglets. This AD requires inspections for cracks, and repair as applicable. The FAA is issuing this AD to address the unsafe condition on these products.

DATES: This AD is effective February 26, 2026.

The Director of the Federal Register approved the incorporation by reference of a certain publication listed in this AD as of February 26, 2026.

The FAA must receive comments on this AD by April 13, 2026.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov by searching for and locating Docket No. FAA-2026-1333; or in person at Docket Operations between 9 a.m. and 5 p.m., Monday through Friday, except Federal holidays. The AD docket contains this final rule, any comments received, and other information. The street address for Docket Operations is listed above.

Material Incorporated by Reference:

• For material identified in this AD, contact Aviation Partners Boeing, 2811 South 102nd Street, Suite 200, Seattle, WA 98168; telephone 1-206-830-7699; email leng@aviationpartners.com; website aviationpartnersboeing.com.

• You may view this material at the FAA, Airworthiness Products Section, Operational Safety Branch, 2200 South 216th St., Des Moines, WA. For information on the availability of this material at the FAA, call 206-231-3195. It is also available at regulations.gov under Docket No. FAA-2026-1333.

FOR FURTHER INFORMATION CONTACT: Sarah Illg, Aviation Safety Engineer, FAA, 2200 South 216th St., Des Moines, WA 98198; phone: 206-231-3517; email: Sarah.A.Illg@faa.gov.

SUPPLEMENTARY INFORMATION:

Comments Invited

The FAA invites you to send any written data, views, or arguments about this final rule. Send your comments using a method listed under the ADDRESSES section. Include Docket No. FAA-2026-1333 and Project Identifier AD-2026-00130-T at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Sarah Illg, Aviation Safety Engineer, FAA, 2200 South 216th St., Des Moines, WA 98198; phone: 206-231-3517; email: Sarah.A.Illg@faa.gov. Any commentary that the FAA receives that is not specifically designated as CBI will be placed in the public docket for this rulemaking.

Background

The FAA has received a report indicating a crack finding on a Boeing Model 757-200 airplane with scimitar blended winglets while undergoing a heavy maintenance check. The crack was located in the inspar outer lower wing skin area in the periphery of access panel 543BB. Four additional findings of cracks in the same area have been reported to the FAA during February of 2026. Model 757-300 airplanes with scimitar blended winglets are similar in design to those on Model 757-200 airplanes; therefore, those Model 757-300 airplanes might be subject to the same unsafe condition. The skin in this area is an Aviation Partners Boeing machined skin panel installed during winglet modification. There is no existing mandatory inspection that would discover these cracks. The potential for an undetected crack in the inspar outer lower left and right wing skin area, if not addressed, could result in reduced structural integrity or partial wing loss leading to loss of control of the airplane. The FAA is issuing this AD to address the unsafe condition on these products.

FAA's Determination

The FAA is issuing this AD because the agency has determined the unsafe condition described previously is likely to exist or develop in other products of the same type design.

Material Incorporated by Reference Under 1 CFR Part 51

The FAA reviewed Aviation Partners Boeing Alert Service Letter APBSL757-0039 Rev IR, dated February 4, 2026. This material specifies procedures for an external detailed (visual) inspection and an external high frequency eddy current (HFEC) inspection of the wing lower skin panel between wing station (WSTA) 711.5 and WSTA 743.5, left and right wing, for cracks and repair if any crack is found. This material is reasonably available because the interested parties have access to it through their normal course of business or by the means identified in the ADDRESSES section.

AD Requirements

This AD requires accomplishing the actions specified in the material already described, except as discussed under “Differences Between this AD and the Referenced Material.”

Differences Between This AD and the Referenced Material

Although the compliance time in Table 1 of Aviation Partners Boeing Alert Service Letter APBSL757-0039 Rev IR, dated February 4, 2026, instructs all airplanes to accomplish the inspections within 30 days, this AD requires a compliance time of within 5 days. Due to the additional crack findings since the publication of the service information, and the lack of a mandatory inspection that would cause operators to find these cracks, the FAA has determined that a compliance time of 5 days is appropriate to address the unsafe condition.

Interim Action

The FAA considers this AD to be an interim action. If final action is later identified, the FAA might consider further rulemaking then.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because of the potential for an undetected crack in the inspar outer lower left and right wing skin area. Preliminary analysis by Boeing and Aviation Partners Boeing indicates that limit load cannot be sustained by the structure of the airplane due to the potential damage. There have been four recent reports of cracks, and currently there is no inspection program near the crack location. The unsafe condition, if not addressed, could result in reduced structural integrity or partial wing loss leading to loss of control of the airplane. Additionally, the compliance time in this AD is shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 156 airplanes of U.S. registry. The FAA estimates the following costs to comply with this AD:

Estimated Costs
Action | Labor cost | Parts cost | Cost per product | Cost on U.S. operators
Detailed and HFEC inspections | 2 work-hours × $85 per hour = $170 | $0 | $170 | $26,520

The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2026-04-06 The Boeing Company: Amendment 39-23266; Docket No. FAA-2026-1333; Project Identifier AD-2026-00130-T.

(a) Effective Date

This airworthiness directive (AD) is effective February 26, 2026.

(b) Affected ADs

None.

(c) Applicability

This AD applies to The Boeing Company Model 757-200 and -300 series airplanes, certificated in any category, as identified in Aviation Partners Boeing Alert Service Letter APBSL757-0039 Rev IR, dated February 4, 2026.

(d) Subject

Air Transport Association (ATA) of America Code 57, Wings.

(e) Unsafe Condition

This AD was prompted by reported crack findings on airplanes with scimitar blended winglets. The FAA is issuing this AD to address the potential for an undetected crack in the inspar outer lower left and right wing skin area. The unsafe condition, if not addressed, could result in reduced structural integrity or partial wing loss leading to loss of control of the airplane.

(f) Compliance

Comply with this AD within the compliance times specified, unless already done.

(g) Required Actions

(1) Within 5 days after the effective date of this AD, do an external detailed inspection and an external high frequency eddy current inspection of the wing lower skin panel between wing station (WSTA) 711.5 and WSTA 743.5, left and right wing, for cracks, in accordance with Figure 1 of Aviation Partners Boeing Alert Service Letter APBSL757-0039 Rev IR, dated February 4, 2026.

(2) If any crack is found, during any inspection required by paragraph (g)(1) of this AD, repair before further flight using a method approved in accordance with the procedures specified in paragraph (i) of this AD.

(h) Special Flight Permit

Special flight permits, as described in 14 CFR 21.197 and 21.199 of the Federal Aviation Regulations (14 CFR 21.197 and 21.199), are not allowed unless approved in accordance with the procedures specified in paragraph (i) of this AD.

(i) Alternative Methods of Compliance (AMOCs)

The Manager, West Certification Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (j) of this AD. Information may be emailed to: AMOC@faa.gov. Before using any approved AMOC, notify your appropriate principal inspector, or lacking a principal inspector, the manager of the responsible Flight Standards Office.

(j) Additional Information

For more information about this AD, contact Sarah Illg, Aviation Safety Engineer, FAA, 2200 South 216th St., Des Moines, WA 98198; phone: 206-231-3517; email: Sarah.A.Illg@faa.gov.

(k) Material Incorporated by Reference

(1) The Director of the Federal Register approved the incorporation by reference of the material listed in this paragraph under 5 U.S.C. 552(a) and 1 CFR part 51.

(2) You must use this material as applicable to do the actions required by this AD, unless the AD specifies otherwise.

(i) Aviation Partners Boeing Alert Service Letter APBSL757-0039 Rev IR, dated February 4, 2026.

Note 1 to paragraph (k)(2)(i): Page 1 of Aviation Partners Boeing Alert Service Letter APBSL757-0039 Rev IR is the only page of the document that contains the document date.

(ii) [Reserved]

(3) For material identified in this AD, contact Aviation Partners Boeing, 2811 South 102nd Street, Suite 200, Seattle, WA 98168; telephone 1-206-830-7699; email leng@aviationpartners.com; website aviationpartnersboeing.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on February 18, 2026.
Paul R. Bernado,
Acting Director, Compliance & Airworthiness Division, Aircraft Certification Service.

[FR Doc. 2026-03856 Filed 2-24-26; 4:15 pm]

BILLING CODE 4910-13-P